DEPARTMENT OF AGRICULTURE

Forest Service

Ochoco National Forest, Lookout Mountain Ranger District; Oregon; Big Summit Allotment Management Plan EIS

AGENCY: Forest Service, USDA.

ACTION: Notice of intent to prepare an environmental impact statement.

SUMMARY: The Ochoco National Forest is preparing an environmental impact statement (EIS) to analyze the effects of changing grazing management in five grazing allotments on the Lookout Mountain Ranger District. These five allotments are: Big Summit, Pringle, Brush Creek, Lost Horse and North Fork. The proposed action will reauthorize term grazing permits, make rangeland improvements, manage livestock use and distribution to facilitate the improvement of riparian conditions, including streambank stability, riparian vegetation, and water temperature, and will conduct riparian restoration activities on some streams in the project area. These actions are needed to achieve and maintain consistency with the Ochoco National Forest Land and Resource Management Plan, as amended.

DATES: Comments concerning the scope of the analysis must be received by March 20, 2009. The draft environmental impact statement is expected to be completed and available for public comment in July 2009. The final environmental impact statement is expected to be completed in September 2009.

ADDRESSES: Send written comments to Bill Queen, District Ranger, Lookout Mountain District, Ochoco National Forest, 3160 NE Third Street, Prineville, Oregon 97754. Alternately, electronic comments may be sent to comments-pacificnorthwest-ochoco@fs.fed.us. Electronic comments must be submitted as part of the actual e-mail message, or as an attachment in plain text (.txt), Microsoft Word (.doc), rich text format (.rtf), or portable document format (.pdf).

FOR FURTHER INFORMATION CONTACT: Marcy Boehme, Project Leader, at 3160 NE Third Street, Prineville, Oregon 97754, or at (541) 416-6463, or by e-mail at mboehme@fs.fed.us.

Responsible Official: The responsible official will be Jeff Walter, Forest Supervisor, Ochoco National Forest, 3160 NE Third Street, Prineville, Oregon 97754.

SUPPLEMENTARY INFORMATION: Purpose and Need. The purpose of this proposal is to reauthorize livestock grazing consistent with Forest Plan standards and guidelines. There is a need to make range improvements and change livestock management to move towards desired conditions for stream shade and bank stability. Based on surveys many of the streams in the project area do not meet the desired condition for shade or bank stability. Livestock grazing is one of the factors that contribute to low levels of shade and unstable stream banks. Active riparian restoration activities will facilitate the achievement of the desired condition.

Proposed Action. The proposed action includes a variety of management strategies and activities, including active management of livestock, creation of riparian pastures, resting of some areas while riparian resources improve, implementation of deferred rotation grazing systems, implementation of rest rotation grazing systems, new water developments, relocation or improvement of existing water developments, creation of livestock exclosures around riparian areas and/or sensitive plant locations, protection of heritage resources, planting of riparian hardwoods, placing logs and rocks in and along stream channels, protection of riparian vegetation and streambanks, and temporary and permanent reductions in AUMs.

Issues. Preliminary issues identified include the potential effect of the proposed action on livestock grazing, on heritage resources, on the North Fork Crooked River Wild & Scenic corridor, on sensitive plants, and on the introduction and/or spread of invasive plants, as well as the cumulative effects of the proposed action where associated activities overlap with other management activities.

Comment. Public comments about this proposal are requested in order to assist in identifying issues, determine how to best manage the resources, and to focus the analysis. Comments received to this notice, including names and addresses of those who comment, will be considered part of the public record on this proposed action and will be available for public inspection. Comments submitted anonymously will be accepted and considered; however, those who submit anonymous comments will not have standing to appeal the subsequent decision under 36 CFR parts 215 and 217. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied, the agency will return the submission and notify the requester that the comments may be resubmitted with or without name and address within a specified number of days.

A draft EIS will be filed with the Environmental Protection Agency (EPA) and available for public review by July, 2009. The EPA will publish a Notice of Availability (NOA) of the draft ETS in the Federal Register. The final EIS is scheduled to be available September 2009. The comment period on the draft EIS will be 45 days from the date the EPA publishes the notice of availability in the Federal Register. The Forest Service believes, at this early stage, it is important to give reviewers notice of several court rulings related to public participation in the environmental review process. First, reviewers of a draft EIS must structure their participation in the environmental review of the proposal so that it is meaningful and alerts an agency to the reviewer's position and contentions [Vermont Yankee Nuclear Power Corp. v. NRDC, 435 U.S. 519, 553 (1978)]. Also, environmental objections that could be raised at the draft EIS stage but that are not raised until after completion of the final EIS may be waived or dismissed by the courts [City of Angoon v. Harris, 490 F. Supp. 1334, 1338 (E.D. Wis. 1980)]. Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EJS should be as specific as possible. It is also helpful if comments refer to specific pages or chapters of the draft statement. Comments may also address the adequacy of the draft EIS of the merits of the alternatives formulated and discussed in the statement. Reviewers may wish to refer to the Council on Environmental Quality Regulations for implementing the procedural provisions of the National Environmental Policy Act at 40 CFR 1503.3 in addressing these points.

In the final EIS, the Forest Service is required to respond to substantive comments received during the comment period for the draft EIS. The Forest Service is the lead agency and the responsible official is the Forest Supervisor, Ochoco National Forest. The responsible official will decide whether and how to reissue grazing permits in the Big Summit, Pringle, Brush Creek, Lost Horse and North Fork allotments. The responsible official will also decide how to mitigate impacts of these actions and will determine when and how monitoring of effects will take place.

The Big Summit Allotment Management Plan decision and the reasons for the decision will be documented in the record of decision. That decision will be subject to Forest Service Appeal Regulations (35 CFR Part 215).

Dated: February 9, 2009.
William R. Queen,
District Ranger.

[FR Doc. E9-3275 Filed 2-17-09; 8:45 am]

BILLING CODE 3410-11-M